CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of its Challenge Grant Application Instructions using the Corporation's Electronic Application System, eGrants. The Corporation is also soliciting comments concerning a new approval of the Challenge Grant Application Instructions using the Government-wide application system, Grants.gov. The use of the Grant.gov system will be dependent upon the development of the system to meet the Corporation's individualized needs. One set of application instructions is necessary for current and prospective grantees to apply for a Challenge Grant. The decision on how to apply, via eGrants or Grants.gov, will be up to the individual applicant. Completion of the Challenge Grant Application Instructions is required to be considered for funding.

Copies of the information collection requests can be obtained by contacting the office listed in the address section of this notice.

DATES: Written comments must be submitted to the individual and office listed in the ADDRESSES section by April 15, 2005.

ADDRESSES: You may submit comments, identified by the title of the information collection activity, by any of the following methods:

(1) By mail sent to: Corporation for National and Community Service, Office of Grants Policy and Operations; Attention Ms. Marci Hunn, Program Officer; 1201 New York Avenue, NW., Washington, DC 20525.

(2) By hand delivery or by courier to the Corporation's mailroom at Room 6010 at the mail address given in paragraph (1) above, between 9 a.m. and 4 p.m. Monday through Friday, except Federal holidays.

(3) By fax to: (202) 565-2787, Attention Ms. Marci Hunn, Program Officer.

(4) Electronically through the Corporation's e-mail address system: challengegrants@cns.gov.

FOR FURTHER INFORMATION CONTACT: Marci Hunn, (202) 606-5000, ext. 420 or by e-mail at challengegrants@cns.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Description: The purpose of these Challenge Grants is to assist nonprofit organizations in securing previously untapped sources of private funds to build sustainable national and community service programs. Organizations receiving funds must either greatly expand services by engaging citizens in meeting community needs or offer new services through expanded citizen engagement.

Background: The Challenge Grant Application is completed by applicant organizations interested in supporting a Challenge Grant program. The application is completed electronically by using the Grants.gov web based system or the Corporation's web-based system, eGrants.

Current Action: The Corporation seeks to renew and revise application instructions for Challenge Grant Application Instructions using the eGrants system. When revised, the application will include additional instructions to clarify narrative and work plan sections; will contain an updated list of “Service Categories” used by applicants to identify the types of needs the national service participants will meet; and will contain current references used in the grants management system. The application will otherwise be used in the same manner as the existing application.

The Corporation also seeks approval for new application instructions for applicants to apply using the Grants.gov online application system. The Grants.gov system has been developed for the Corporation in a way that will meet the same requirements as our eGrants system. The Grants.gov application instructions ensure that applicants are applying with the same instructions and character limits that are currently used on the Corporation's eGrants system.

Type of Review: Renewal.

Agency: Corporation for National and Community Service.

Title: Challenge Grant Application Instructions.

OMB Number: none.

Agency Number:.

Affected Public: Eligible applicants to the Corporation for funding for Challenge Grants.

Total Respondents: 40.

Frequency: On occasion.

Average Time Per Response: Ten (10) hours.

Estimated Total Burden Hours: 400 hours.

Total Burden Cost (capital/startup): None.

Total Burden Cost (operating/maintenance): None.

Comments submitted in response to this notice will be summarized and/or included in the request for Office of Management and Budget approval of the information collection request; they will also become a matter of public record.

Dated: February 4, 2005.
Amy Mack,
Chief of Staff, Office of Chief Executive Officer.

[FR Doc. 05-2749 Filed 2-11-05; 8:45 am]

BILLING CODE 6050-$$-P